GULF COAST ECOSYSTEM RESTORATION COUNCIL

[Docket No.: 108062025-1111-01]

Notice of Proposed Subaward Under a Council-Selected Restoration Component Award

AGENCY: Gulf Coast Ecosystem Restoration Council.

ACTION: Notice.

SUMMARY: The Gulf Coast Ecosystem Restoration Council (Council) publishes notice of a proposed subaward from the Texas Commission on Environmental Quality (TCEQ) to the Coastal Prairie Conservancy (CPC), a nonprofit organization, for the purpose of acquiring in fee simple 2,500 acres adjacent to the Justin Hurst Wildlife Management Area in accordance with the Texas Land Acquisition for Coastal Conservation Award as approved in the Funded Priority List.

FOR FURTHER INFORMATION CONTACT: Please send questions by email to Bridget Zachary at bridget.zachary@restorethegulf.gov or (504) 232-3750.

SUPPLEMENTARY INFORMATION: Section 1321(t)(2)(E)(ii)(III) of the Resources and Ecosystems Sustainability, Tourist Opportunities, and Revived Economies Act of 2012 (33 U.S.C. 1321(t) and note) (RESTORE Act) and the Department of the Treasury's implementing regulation at 31 CFR 34.401(b) set forth certain notice and publication requirements. They require that for purposes of awards made under the Comprehensive Plan Component of the RESTORE Act, a State or Federal award recipient may make a subaward to or enter into a cooperative agreement with a nongovernmental entity that equals or exceeds 10 percent of the total amount of the award only if at least 30 days before the State or Federal award recipient enters into such an agreement, the Council publishes in the Federal Register and delivers to specified Congressional committees the name of the recipient and subrecipient; a brief description of the activity, including its purpose; and the amount of the award. This notice accomplishes the Federal Register publication requirement.

Description of Proposed Action

As specified in FPL 3b, which is available on the Council's website at https://www.restorethegulf.gov/FPL3b, RESTORE Act funds in the amount of $24,000,000 will support the Texas Land Acquisition for Coastal Conservation Award to the Texas Commission on Environmental Quality (TCEQ). Under the Texas Land Acquisition for Coastal Conservation Award, TCEQ will provide a subaward in the amount of $6,000,000 to The Coastal Prairie Conservancy (CPC), a non-profit organization, to acquire in fee simple 2,500 acres adjacent to the Justin Hurst Wildlife Management Area. Immediately after the purchase, CPC will transfer the title of the property to the Texas Parks and Wildlife Department (TPWD) and TPWD will place a conservation easement on the property that will be held by CPC.

Keala J. Hughes,
Director of External Affairs & Tribal Relations, Gulf Coast Ecosystem Restoration Council.

[FR Doc. 2025-15172 Filed 8-8-25; 8:45 am]

BILLING CODE 6560-58-P